DEPARTMENT OF HEALTH AND HUMAN SERVICES

Centers for Medicare & Medicaid Services

42 CFR Part 412

[CMS-1659-CN]

RIN 0938-ZB26

Medicare Program; Explanation of FY 2004 Outlier Fixed-Loss Threshold as Required by Court Rulings; Correction

AGENCY: Centers for Medicare & Medicaid Services (CMS), HHS.

ACTION: Clarification; correction.

SUMMARY: This document corrects a technical error that appeared in the document published in the Federal Register on January 22, 2016 entitled “Medicare Program; Explanation of FY 2004 Outlier Fixed-Loss Threshold as Required by Court Rulings.”

DATES: October 14, 2016.

FOR FURTHER INFORMATION CONTACT: Don Thompson, (410) 786-6504.

SUPPLEMENTARY INFORMATION:

I. Background

In FR Doc. 2016-01309 of January 22, 2016 (81 FR 3727), there was an error that is identified and corrected in the Correction of Errors section below. The provisions of this correction document are applicable as if they had been included in the document published January 22, 2016.

II. Summary of Errors

On page 3728, in our discussion of the cost-to-charge ratios estimates, we made an error regarding the fiscal year (FY).

III. Correction of Errors

In FR Doc. 2016-01309 of January 22, 2016 (81 FR 3727), make the following correction:

1. On page 3728, second column, first partial paragraph, line 12, the phrase “FY 2004 using actual market basket” is corrected to read “FY 2002 using actual market basket”.

Dated: October 6, 2016.
Wilma Robinson,
Deputy Executive Secretary to the Department, Department of Health and Human Services.

[FR Doc. 2016-24917 Filed 10-13-16; 8:45 am]

BILLING CODE 4120-01-P